DEPARTMENT OF THE INTERIOR

Bureau of Land Management

[MO #4500069731, 14X.LLMTC02000.L51100000.GA0000.LVEME14CE500]

Notice of Intent To Prepare an Environmental Impact Statement and Notice of Public Meetings for a Federal Coal Lease by Application (MTM 105485), Application To Modify Federal Coal Lease (MTM 94378), and Applications To Amend Land Use Permit (MTM 96659), and Land Use Lease (MTM 74913), Big Horn County, MT

AGENCY: Bureau of Land Management, Interior.

ACTION: Notice.

SUMMARY: In accordance with Bureau of Land Management (BLM) regulations, the United States Department of the Interior, BLM Miles City Field Office is publishing this notice of intent to prepare an environmental impact statement (EIS) to evaluate the potential impacts of four proposed actions related to coal mining at the Spring Creek Mine in Big Horn County, Montana. The proposed actions involve the potential sale of two tracts of Federal coal through a Lease-By-Application (LBA) and a lease modification application (LMA). Both applications cover proposed additions to an existing Federal coal lease at the Spring Creak Mine. Related to these leasing requests, the EIS will also evaluate proposed amendments to an existing land use permit to maintain access to mine monitoring and gauging stations and an existing land use lease to provide room for the placement of overburden and infrastructure. The EIS will be called the Spring Creek Coal EIS. This notice initiates the public scoping process for the Spring Creek Coal EIS.

DATES: Public scoping meetings to provide the public with an opportunity to review the proposals and gain understanding of the coal leasing process will be held by the BLM. The dates and locations of any scoping meetings will be announced at least 15 days in advance through local media outlets and through the Miles City BLM Web site at: www.blm.gov/mt/st/en/fo/miles_city_field_office.html. At the meetings, the public is invited to submit comments and resource information, plus identify issues or concerns to be considered in the environmental analysis. The BLM can best use public input if comments and resource information are submitted in writing by February 13, 2017. We will provide additional opportunities for public participation upon publication of the Draft EIS.

ADDRESSES: Please submit written comments or concerns to the BLM Miles City Field Office, Attn: Irma Nansel, 111 Garryowen Road, Miles City, MT 59301. Written comments or resource information may also be hand delivered to the BLM Miles City Field Office. Comments may be sent electronically to BLM_MT_MCFO_SCCEIS@blm.gov. For electronic submission, please include “Spring Creek Coal EIS/Irma Nansel” in the subject line. Members of the public may examine documents pertinent to this proposal by visiting the Miles City Field Office during its business hours (7:45 a.m. to 4:30 p.m.), Monday through Friday, except holidays.

FOR FURTHER INFORMATION CONTACT: Irma Nansel, Planning and Environmental Coordinator; telephone 406-233-3653. Persons who use a telecommunications device for the deaf (TDD) may call the Federal Relay Service (FRS) at 1-800-877-8339 to contact the above individual during normal business hours. The FRS is available 24 hours a day, seven days a week, to leave a message or question with the above individual. You will receive a reply during normal business hours.

SUPPLEMENTARY INFORMATION: Spring Creek Coal LLC (SCC) submitted four applications to the BLM, Montana State Office in 2012 and 2013. The four applications are as follows:

A. On February 15, 2013, SCC submitted LBA MTM 105485 for the Spring Creek Northwest and Spring Creek Southeast tracts. The LBA encompasses approximately 1,602.57 acres (containing approximately 198.2 million mineable tons of coal) adjacent to the Spring Creek Mine. Since decertification of the Powder River Federal Coal Region as a Federal coal production region by the Powder River Regional Coal Team (PRRCT) in 1990, leasing is permitted to take place under the existing regulations on an application basis, in accordance with 43 CFR 3425.1-5. The PRRCT reviewed the proposed Spring Creek Northwest and Spring Creek Southeast tracts in the application and recommended that the Montana State Office begin processing the application. This LBA consists of the following acreage:

|  | Acres
Principal Meridian, Montana
Township 8 South, Range 39 East:
Sec. 8 | S½NE¼SE¼ S½NW¼SE¼ | 20 20
| SW¼SE¼ | 40
| SE¼SE¼ | 40
Sec. 9 | S½NW¼SW¼ SW¼ SW¼ | 20 40
| SE¼SW¼ | 40
Sec. 17 | NE¼NE¼ NW¼NE¼ | 40 40
| N½SW¼NE¼ N½SE¼NE¼ | 20 20
Sec. 35 | NE¼ SE¼ | 160 160
Township 9 South, Range 39 East:
Sec. 1 | Lot 1 Lot 2 | 40.20 40.58
| Lot 3 Lot 4 | 40.39 39.92
| NW¼NE¼ SW¼NE¼ | 40 40
| NW¼ E½NW¼SE¼ E½SW¼SE¼ | 160 20 20
Sec. 2 | NE¼ | 160
Township 9 South, Range 40 East:
Sec. 6 | Lot 5 Lot 6 Lot 7 | 37.12 37.16 37.20
| S½SE¼NW¼ NE¼SW¼ SE¼SW¼ | 20 40 40
| S½NE¼SE¼ NW¼NW¼SE¼ S½NW¼SE¼ | 20 10 20
| SW¼SE¼ SE¼SE¼ | 40 40

B. On December 20, 2012, SCC applied for a lease modification to Federal coal lease MTM 94378, for the Spring Creek Northeast tract, consisting of about 170 acres (containing approximately 7.9 million mineable tons of coal) adjacent to the Spring Creek Mine. On May 9, 2016, the application was modified to reduce the tract acreage to 150 acres. The tract reserve value did not change as a result of the acreage reduction. If approved, the acreage covered by the LMA would be added to the existing lease and is listed below. Consistent with applicable statutory authority, the proposed LMA acreage does not exceed the original lease acreage of (1,117.70 acres):

|  | Acres
Principal Meridian, Montana
Township 8 South, Range 39 East:
Sec. 13 | NW¼SW¼NE¼ SW¼SW¼NE¼ SE¼SW¼NE¼ | 10 10 10
| SW¼NE¼NW¼ SE¼NE¼NW¼ NE¼NW¼NW¼ | 10 10 10
| NW¼NW¼NW¼ SE¼NW¼NW¼ NE¼SE¼NW¼ | 10 10 10
| NW¼SE¼NW¼ SE¼SE¼NW¼ NW¼NE¼SE¼ | 10 10 10
| SW¼NE¼SE¼ NE¼NW¼SE¼ | 10 10
Sec. 14 | NE¼NE¼NE¼ | 10

C. On December 23, 2013, SCC submitted an application to amend land use permit (LUP) MTM 96659, adding 175 acres to the permit and removing 320 acres currently included within the permit that overlap the Spring Creek Southeast LBA tract. The LUP amendment would maintain access to mine monitoring areas and gauging stations by utilizing existing two-track roads and trails. The LUP use will not exceed 3 years, in accordance with 43 CFR 2920.1-1(b), and will not cause appreciable damage or disturbance to the public lands, their resources or improvements in accordance with 43 CFR 2920.2-2(a). The acreage to be added to LUP MTM 96659 are:

|  | Acres
Principal Meridian, Montana
Township 8 South, Range 39 East:
Sec. 20 | S½NE¼ | 80
Sec. 22 | SW¼SW¼NE¼ S½SE¼SW¼NE¼ | 10 5
Sec. 27 | NE¼SW¼ | 40
Township 9 South, Range 40 East:
Sec. 7 | S½SW¼SW¼NE¼ S½SE¼SW¼NE¼ | 5 5
| S½SW¼SE¼NE¼ S½SE¼SE¼NE¼ | 5 5
Sec. 8 | S½SW¼NW¼ | 20

Acres to be removed from LUP MTM 96659 are:

|  | Acres
Township 8 South, Range 39 East:
Sec. 35 | E½ | 320

D. On December 23, 2013, SCC submitted an application in accordance with 43 CFR 2920.2-3 to amend noncompetitive land use lease (LUL) MTM 74913, adding 255 acres to the existing lease and removing approximately 195 acres that overlap the Spring Creek Southeast LBA tract. A Notice of Realty Action was published in the Federal Register in parallel with this notice. The lands added to LUL MTM 74913 are as follows:

|  | Acres
Principal Meridian, Montana
Township 8 South, Range 39 East:
Sec. 22 | N½SW¼NE¼ N½SE¼SW¼NE¼ | 20 5
| SE¼SE¼NE¼ W½SE¼NE¼ | 10 20
Township 9 South, Range 39 East:
Sec. 1 | SE¼SW¼ | 40
Township 9 South, Range 40 East:
Sec. 7 | ½NE¼ N½SW¼NE¼ N½SW¼NE¼ | 80 20 20
| N½SW¼SE¼NE¼ N½SE¼SE¼NE¼ | 5 5
| N½SE¼SW¼NE¼ N½SW¼SW¼NE¼ | 5 5
Sec. 8 | N½SW¼NW¼ | 20

Acres to be removed from LUL MTM 74913 are:

|  | Acres
Township 8 South, Range 39 East:
Sec. 35 | NE¼NE¼ SE¼NE¼ E½NW¼NE¼ | 40 40 20
| E½NW¼NW¼NE¼ NW¼NW¼NW¼NE¼ E½SW¼NW¼NE¼ | 5 2.5 5
| NE¼SW¼NE¼ NE¼SE¼SW¼NE¼ E½NE¼SE¼ | 10 2.5 20
| E½NW¼NE¼SE¼ NE¼SE¼SE¼ | 5 10
Township 9 South, Range 40 East:
Sec. 6 | Lot 5 | 34.78

The Spring Creek Mine operates under an existing approved surface mining permit from the State of Montana. The Montana Department of Environmental Quality, the Montana Department of Natural Resources and Conservation, and the OSMRE will be cooperating agencies in the preparation of the Spring Creek Coal EIS. Other cooperating agencies may be identified during the scoping process.

The actions announced by this Notice are consistent with Secretarial Order (S.O.) 3338, which allows preparatory work, including National Environmental Policy Act and other related analyses, on already-pending applications to continue while the BLM's programmatic review of the Federal coal program is pending. With respect to the sale of the coal covered by the leasing requests, unless it is shown that one of the exceptions or exclusions to S.O. 3338 applies, the BLM will not make a final leasing decision on the proposed LBA until the programmatic review has concluded. The BLM has confirmed that the LMA is not subject to S.O. 3338's leasing pause because the lease tract is less than 160 acres. As result, issuane of the LMA can occur prior to the finalization of the programmatic review.

If the proposed tracts were to be leased to the applicant, the new lease and the modifications to the existing coal lease, LUP, and LUL, must be incorporated into the existing approved mining and reclamation plans for the mine. Before this can occur, the Secretary of the Interior must approve the revised Mineral Leasing Act (MLA) mining plan for the mine in which the tracts will be included. The OSMRE is the Federal agency that is responsible for recommending approval, approval with conditions, or disapproval of the revised MLA mining plan to the Secretary of the Interior, which is why it is a cooperator in this EIS.

In order to help facilitate its analysis, the BLM is providing interested parties the opportunity to submit comments and relevant information to help the BLM identify issues to be considered in preparing the Spring Creek Coal EIS. Issues that have been identified in analyzing the impacts of previous Federal coal-leasing actions in the Montana Powder River Basin (PRB) include: (1) The need for resolution of potential conflicts between existing and proposed oil and gas development and coal mining on the tracts proposed for coal leasing; (2) Potential impacts to big game herds and hunting, Greater Sage-Grouse, listed threatened and endangered species, and air quality, including greenhouse gas emissions; (3) The need to consider the cumulative impacts of coal leasing decisions combined with other existing and proposed development in the Montana PRB; and (4) Potential site-specific and cumulative impacts on air and water quality.

Before including your address, phone number, email address, or other personal identifying information in your comment, you should be aware that your entire comment—including your personal identifying information—may be made public at any time. While you may request to us in your comment to withhold your personal identifying information from public review, we cannot guarantee that we will be able to do so.

Authority: 40 CFR 1506.6, 43 CFR 3425.3, and 3425.4.

Diane M. Friez,
District Manager.

[FR Doc. 2016-29969 Filed 12-13-16; 8:45 am]

BILLING CODE 4310-DN-P